DEPARTMENT OF THE TREASURY

Bureau of Alcohol, Tobacco and Firearms

27 CFR Part 9

[T.D. ATF-486; Re: Notice No. 948]

RIN 1512-AC71

Capay Valley Viticultural Area (99R-449P)

AGENCY: Bureau of Alcohol, Tobacco and Firearms, Treasury.

ACTION: Treasury decision, final rule.

SUMMARY: This Treasury decision establishes the Capay Valley viticultural area in northwest Yolo County, California. The Capay Valley viticultural area covers approximately 150 square miles or about 102,400 acres. Approximately 25 acres are currently planted to wine grapes.

EFFECTIVE DATE: February 18, 2003.

FOR FURTHER INFORMATION CONTACT: Kristy Colón, Regulations Division, Bureau of Alcohol, Tobacco and Firearms, 650 Massachusetts Avenue, NW., Washington, DC 20226; telephone 202-927-8210.

SUPPLEMENTARY INFORMATION:

Background on Viticultural Areas

What Is ATF's Authority To Establish a Viticultural Area?

The Federal Alcohol Administration Act (FAA Act) at 27 U.S.C. 205(e) requires that alcohol beverage labels provide the consumer with adequate information regarding a product's identity and prohibits the use of deceptive information on such labels. The FAA Act also authorizes the Bureau of Alcohol, Tobacco and Firearms (ATF) to issue regulations to carry out the Act's provisions.

Regulations in 27 CFR part 4, Labeling and Advertising of Wine, allow the establishment of definitive viticultural areas. The regulations allow the name of an approved viticultural area to be used as an appellation of origin on wine labels and in wine advertisements. A list of approved viticultural areas is contained in 27 CFR part 9, American Viticultural Areas.

What Is the Definition of an American Viticultural Area?

Section 4.25(e)(1), title 27 CFR, defines an American viticultural area as a delimited grape-growing region distinguishable by geographical features. Viticultural features such as soil, climate, elevation, and topography distinguish it from surrounding areas.

What Is Required To Establish a Viticultural Area?

Section 4.25a(e)(2), title 27 CFR, outlines the procedure for proposing an American viticultural area. Any interested person may petition ATF to establish a grape-growing region as a viticultural area. The petition must include:

• Evidence that the name of the proposed viticultural area is locally and/or nationally known as referring to the area specified in the petition;

• Historical or current evidence that the boundaries of the viticultural area are as specified in the petition;

• Evidence relating to the geographical features (climate, soil, elevation, physical features, etc.) which distinguish the viticultural features of the proposed area from surrounding areas;

• A description of the specific boundaries of the viticultural area, based on features which can be found on United States Geological Survey (U.S.G.S.) maps of the largest applicable scale; and

• A copy of the appropriate U.S.G.S. map(s) with the boundaries prominently marked.

Rulemaking Proceeding

Capay Valley Petition

ATF received a petition from Tom Frederick and Pam Welch of Capay Valley Vineyards proposing to establish the “Capay Valley” viticultural area in northwestern Yolo County, California. The valley has several wine grape growers, including one who recently received awards for his wines. This viticultural area covers approximately 150 square miles, or about 102,400 acres. Approximately 25 acres are currently planted to wine grapes.

Notice of Proposed Rulemaking

ATF published a notice of proposed rulemaking regarding the Capay Valley viticultural area in the July 25, 2002, Federal Register as Notice No. 948 (67 FR 48597). In that notice, ATF requested comments by September 23, 2002, from all interested persons concerning the establishment of this viticultural area. ATF received no comments in response to Notice No. 948.

What Name Evidence Has Been Provided?

The petitioners submitted as evidence an excerpt from the book “Capay Valley: The Land & The People,” by Ada Merhoff. The excerpt states that the name “Capay Valley” was used in the late 1840s to identify the area when Pio Pico, governor of the territory of Alta California, granted nine square leagues of land called the Rancho Canada de Capay to three Berryessa brothers. The book also contains a copy of an 1857 map of the valley, titled “Map of the Rancho Canada De Capay.” A copy of a map titled “Property Owners 1858 Canada de Capay Grant” on page 6 of the book shows further subdivisions as lands were sold.

In addition, Merhoff's book mentions the Adobe Ranch, a 19th century Capay Valley ranch owned by John Gillig, which also contained a vineyard and winery. Merhoff references other works that also mention Gillig's ranch. “The Western Shore Gazeteer & Commercial Directory for the State of California—Yolo County” by C.P. Sprague and H.W. Atwell states that, in 1869, the Capay Valley Winery at Gillig's ranch processed grapes from his and several other small vineyards in the vicinity, yielding 30,000 gallons of wine in both red and white varieties. Frank T. Gilbert's “The Illustrated Atlas and History of Yolo County,” published in 1879, notes that Gillig's vineyard was “awarded the premium in 1861 for having the finest vineyard in the state.” Merhoff's book also states that the word “Capay” comes from the Wintun Indian's word “capi”, which means “stream” in their Native American language.

What Boundary Evidence Has Been Provided?

The “Capay Valley” viticultural area is located in northwest Yolo County, California, and borders Napa, Lake, and Colusa Counties. The boundaries of the viticultural area follow the natural physical boundaries of the valley, which are formed by the Blue Ridge Mountains to the west and the Capay Hills to the east. Additionally, Cache Creek runs the entire length of the valley. These boundaries also coincide with those of the Capay Valley General Plan, which is a subset of the Yolo County General Plan.

In addition to the required U.S.G.S. map, the petitioner provided a set of maps of Yolo County compiled in 1970 as part of a soil survey by the United States Department of Agriculture's Soil Conservation Service and the University of California Agricultural Experiment Station. These maps show in further detail the boundaries of the viticultural area.

What Evidence Relating to Geographical Features Has Been Provided?

Soils

The petitioners assert that the soils of the Capay Valley viticultural area range from Yolo-Brentwood, which is a well-drained, nearly level, silty clay loam on alluvial fans, to Dibble-Millsholm, which is a well drained, steep to very steep loam to silty clay loam over sandstone.

Some areas have clay soils with creek rock and debris intermixed. Volcanic ash is also found in some areas, primarily in the rolling hills in the center of the valley. The petitioners contend that these clay soils intermixed with creek rock and volcanic ash, add a distinctive viticultural aspect to the area.

The petitioners state that one of the major soil differences between Capay Valley and the adjacent Central Valley area is the abundance of calcareous soils. This supply of calcium makes the clay soils of the Capay Valley less binding and allows grapevine roots to penetrate through the soils more easily. Water usage is therefore less than would be expected given the warm climatic conditions. The calcium-magnesium ratio in the soils is easier to manage because it is easier to add magnesium than calcium.

Elevation

The petitioners note that the elevation of the Capay Valley viticultural area ranges from 100 meters on the valley floor, to 750 meters at the top of the Blue Ridge, and 550 meters at the top of the Capay Hills.

Climate

The petitioners characterize the climate of the viticultural area as one with hot, dry summers and a long growing season. Portions of the valley receive moderating breezes from the Sacramento Delta and San Francisco Bay. Fog creeps over the tops of the Blue Ridge during heavy fog periods in the bay, but the valley is shielded from the ground fog that is pervasive in the Sacramento Valley. Winters are moderate and late spring frosts are occasional enough to negate the need for active frost protection.

Also, the petitioners state that Capay Valley is warmer than Napa Valley to the west. This warmer climate enables the Capay Valley to avoid the frost problems that are common in Napa, offers an earlier growing season, typically 3 to 4 weeks, and reduces the need for as many sulfur sprays throughout the growing season.

Additionally, the petitioners note, the area differs from its Central Valley neighbors to the east in that, while they share a warmer climate, Capay Valley's bud-break is typically 1-2 weeks later.

Regulatory Analyses and Notices

Is This a Significant Regulatory Action as Defined by Executive Order 12866?

It has been determined that this regulation is not a significant regulatory action as defined by Executive Order 12866. Therefore, a regulatory assessment is not required.

How Does the Regulatory Flexibility Act Apply to This Proposed Rule?

This regulation will not have a significant economic impact on a substantial number of small entities. No new requirements are proposed. The establishment of a viticultural area is neither an endorsement nor approval by ATF of the quality of wine produced in the area. The approval of this viticultural area petition merely allows wineries to more accurately describe the origin of their wines to consumers and helps consumers identify the wines they purchase. Thus, any benefit derived from the use of a viticultural area name is the result of a proprietor's own efforts and consumer acceptance of wines from that area. Accordingly, a regulatory flexibility analysis is not required.

Does the Paperwork Reduction Act Apply to This Proposed Rule?

The Paperwork Reduction Act of 1995, 44 U.S.C. chapter 35, and its implementing regulations, 5 CFR part 1320, do not apply to this rule because no requirement to collect information is imposed.

Drafting Information

The principal author of this document is Kristy Colón, Regulations Division, Bureau of Alcohol, Tobacco and Firearms.

List of Subjects in 27 CFR Part 9

Administrative practice and procedure, Alcohol and alcoholic beverages, Consumer protection, and Wine.

Authority and Issuance

Title 27, Code of Federal Regulations, Part 9, American Viticultural Areas, is amended as follows:

PART 9—AMERICAN VITICULTURAL AREAS

1. The authority citation for part 9 continues to read as follows:

Authority: 27 U.S.C. 205.

Subpart C—Approved American Viticultural Areas

2. Subpart C is amended by adding § 9.176 to read as follows:

§ 9.176 Capay Valley.

(a) Name. The name of the viticultural area described in this section is “Capay Valley”.

(b) Approved Maps. The appropriate map for determining the boundary of the Capay Valley viticultural area is the United States Geological Survey (U.S.G.S.) topographic map titled: 30X60 Minute Quadrangle (Healdsburg, California 1972) (Scale: 1:100,000).

(c) Boundaries. The Capay Valley viticultural area is located in Yolo County, California. The beginning point is the junction of the Yolo, Napa, and Lake County lines.

(1) From the beginning point, proceed north then east along the Yolo-Lake County line;

(2) At the junction of the Yolo, Lake, and Colusa County lines, continue east along the Yolo-Colusa County line to its junction with the boundary between ranges R4W and R3W;

(3) Then south along the R4W and R3W boundary to its junction with the 250 meter contour line;

(4) Proceed generally southeast along the meandering 250 meter contour line to its junction with the T10N-T11N section line;

(5) Continue east along the T10N-T11N section line to the unnamed north-south secondary highway known locally as County Road 85;

(6) Then south along County Road 85, crossing Cache Creek, to its intersection with State Highway 16;

(7) Proceed east on Highway 16 to its junction with the unnamed north-south light duty road known locally as County Road 85B;

(8) Then south on County Road 85B to its junction with the unnamed east-west light duty road known locally as County Road 23;

(9) Proceed west on County Road 23 for approximately 500 feet to an unnamed light duty road known locally as County Road 85;

(10) Proceed south on County Road 85 until the road ends and continue south in a straight line to the T9N-T10N section line;

(11) Then west on the T9N-T10N section line to the Napa-Yolo County line;

(12) Continue northwest following the Napa-Yolo county line and return to the starting point.

Dated: October 24, 2002.
Bradley A. Buckles,
Director.

Approved: November 14, 2002.
Timothy E. Skud,
Deputy Assistant Secretary (Regulatory, Tariff & Trade Enforcement).

[FR Doc. 02-31940 Filed 12-19-02; 8:45 am]

BILLING CODE 4810-31-P